DEPARTMENT OF COMMERCE

National Oceanic and Atmospheric Administration

RIN 0648-XM62

Fisheries of the Exclusive Economic Zone off Alaska; Application for an Exempted Fishing Permit

AGENCY: National Marine Fisheries Service (NMFS), National Oceanic and Atmospheric Administration (NOAA), Commerce.

ACTION: Notice; receipt of application for exempted fishing permit.

SUMMARY: This notice announces receipt of an exempted fishing permit (EFP) application from the North Pacific Fisheries Foundation. If granted, this permit would allow the applicant to collect approximately 100 Pacific halibut caught in the non-pelagic trawl gear fishery for flatfish to evaluate the accuracy of two models for predicting delayed mortality of individual trawl caught halibut. This activity has the potential to promote the objectives of the Magnuson-Stevens Fishery Conservation and Management Act, and the Pacific Halibut Act by assessing techniques for improving survival of halibut in non-pelagic trawl fisheries and improving the accuracy of estimates of halibut mortality. Comments will be accepted at the February 4-10, 2009, North Pacific Fishery Management Council (Council) meeting in Seattle, WA.

DATES: Interested persons may comment on the EFP application during the Council's February 4-10, 2009, meeting in Seattle, WA.

ADDRESSES: The Council meeting will be held at the Renaissance Hotel, 515 Madison Street, Seattle, WA.

Copies of the EFP application and the basis for a categorical exclusion under the National Environmental Policy Act are available by writing to the Alaska Region, NMFS, P. O. Box 21668, Juneau, AK 99802, Attn: Ellen Sebastian. The application also is available from the Alaska Region, NMFS website at http://www.fakr.noaa.gov.

FOR FURTHER INFORMATION CONTACT: Jeff Hartman, 907-586-7442 or jeff.hartman@noaa.gov.

SUPPLEMENTARY INFORMATION: NMFS manages the domestic groundfish fisheries in the Bering Sea and Aleutian Islands (BSAI) under the Fishery Management Plan for Groundfish of the BSAI (FMP), which the Council prepared under the Magnuson-Stevens Fishery Conservation and Management Act. Regulations governing the groundfish fisheries of the BSAI appear at 50 CFR parts 600 and 679. The FMP and the implementing regulations at § 600.745(b) and § 679.6 allow the NMFS Regional Administrator to authorize, for limited experimental purposes, fishing that would otherwise be prohibited. Procedures for issuing EFPs are contained in the implementing regulations.

The International Pacific Halibut Commission (IPHC) and NMFS manage fishing for Pacific halibut (Hippoglossus stenolepis) through regulations established under the authority of the Convention between the United States and Canada for the Preservation of the Halibut Fishery of the Northern Pacific Ocean and Bering Sea (Convention) and the Northern Pacific Halibut Act of 1982 (Halibut Act). The IPHC promulgates regulations pursuant to the Convention. The IPHC's regulations are subject to approval by the Secretary of State with concurrence from the Secretary of Commerce (Secretary).

NMFS has received an application for an EFP from the North Pacific Fisheries Foundation (NPFF). Under this EFP, the NPFF would evaluate methods for projecting survival of released halibut, which could improve NMFS's estimates of halibut mortality in the non-pelagic trawl gear fishery for flatfish and identify techniques for minimizing mortality of this species in trawl fisheries.

Background

Regulations implemented by the IPHC allow Pacific halibut to be commercially harvested by the directed North Pacific longline fishery only. Halibut caught incidentally in other fisheries, such as non-pelagic trawl fisheries, must be recorded and returned to the ocean as soon as possible. The North Pacific Fishery Management Council establishes a seasonal maximum biomass of halibut bycatch adjusted for the estimated halibut discard mortality factor for each non-halibut directed fishery. Fisheries close when they reach their seasonal mortality cap even if the catch of the target species is less than the seasonal quota for the directed fishery. In the case of Bering Sea flatfish fisheries, seasons have been cut short by the halibut bycatch cap before the quotas have been reached. Accurately accounting for halibut in NMFS estimates of mortality and assuring that each halibut returned to the sea has the highest possible chance of survival are therefore high priorities for the IPHC's, the Council's, and NMFS's management goals for both halibut and groundfish.

Before halibut are discarded at-sea, the catch must first be estimated by at-sea observers. In order to credibly account for halibut catch and to ensure that the catch and discard of halibut is observed, NMFS prohibits any removal of halibut from a cod end, bin, or conveyance system prior to being observed and enumerated by an at-sea observer.

With the implementation of Amendment 80 to the FMP on September 14, 2007 (72 FR 52668), allocation of halibut was modified for certain vessels, but halibut bycatch continued to limit fishing in some fisheries. The Amendment 80 sector received an initial allocation of 2,525 mt of halibut bycatch mortality, but that allocation will decrease by 50 mt per year until it reaches 2,325 mt in 2012 and subsequent years. In certain years, this amount is less than the sector's historic catch; therefore, finding ways to accurately estimate halibut survival is important for this sector.

This application for an EFP from NPFF proposes to study two methods for predicting halibut survival. It would allow researchers onboard a catcher processor vessel to collect approximately 100 halibut caught with non-pelagic trawl gear and evaluate a reflex action mortality predictor (RAMP) for predicting delayed mortality in individual trawl-caught halibut. The RAMP method would be combined with and compared to the existing IPHC halibut mortality predictor currently used by observers. To assess and compare these two methods, halibut would be held in live tanks on a vessel and assessed by each method. The collection and holding of halibut in this manner requires an exemption from regulations that prohibit retention of halibut by trawl gear, and requiring that all halibut caught with this gear be released as soon as possible (§ 679.7(a)(12), and § 679.21(b)(2)(ii)).

This EFP would apply for the period of time required to complete the experiment during 2009, in areas open to directed fishing for flatfish. It would be of limited scope and duration and would not be expected to change the nature or duration of the groundfish fishery, fishing practices or gear used by this vessel, or the amount or species of fish caught.

The activities that would be conducted under this EFP are not expected to have a significant impact on the human environment as detailed in the categorical exclusion issued for this action (see ADDRESSES).

In accordance with § 679.6, NMFS has determined that the proposal warrants further consideration and has forwarded the application to the Council to initiate consultation. The Council will consider the EFP application during its February 4-10, 2009, meeting, which will be held at the Renaissance Hotel in Seattle, Washington. The applicant has been invited to appear in support of the application.

Public Comments

Interested persons may comment on the application at the February 2009 Council meeting during public testimony. Information regarding the meeting is available at the Council's website at http://www.fakr.noaa.gov/npfmc/council.htm. Copies of the application and categorical exclusion are available for review from NMFS (see ADDRESSES).

Authority: 16 U.S.C. 1801 et seq.

Dated: January 15, 2009.
Emily H. Menashes,
Acting Director, Office of Sustainable Fisheries, National Marine Fisheries Service.

[FR Doc. E9-1184 Filed 1-21-09; 8:45 am]

BILLING CODE 3510-22-S